DEPARTMENT OF HOUSING AND URBAN DEVELOPMENT

[Docket No. FR-5681-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202)-401-0787; Air Force: Mr. Robert Moore, Air Force Real Property Agency, 2261 Hughes Avenue, Suite 156, Lackland AFB, TX 78236-9852, (210)-395-9512; Coast Guard: Commandant, United States Coast Guard, Attn: Jennifer Stomber, 2100 Second St. SW., Stop 7901, Washington, DC 20593-0001; (202)-475-5609; GSA: Mr. Flavio Peres, General Services Administration, Office of Real Property Utilization and Disposal, 1800 F Street NW., Room 7040 Washington, DC 20405, (202)-501-0084; Health and Human Services: Ms. Theresa M. Ritta, Chief Real Property Branch, the Department of Health and Human Services, Room 5B-17, Parklawn Building, 5600 Fishers Lane, Rockville, MD 20857, (301)-443-2265; Interior: Mr. Michael Wright, Acquisition & Property Management, Department of the Interior, MS-4262, 1849 C Street, Washington, DC 20240, (202)-513-079; NASA: Mr. Frank T. Bellinger, Facilities Engineering Division, National Aeronautics & Space Administration, Code JX, Washington, DC 20546, (202)-358-1124; Navy: Mr. Steve Matteo, Department of the Navy, Asset Management Division, Naval Facilities Engineering Command, Washington Navy Yard, 1330 Patterson Ave. SW., Suite 1000, Washington, DC 20374; (202)-685-9426 (These are not toll-free numbers).

Dated: June 27, 2013.
Mark Johnston,
Deputy Assistant Secretary for Special Needs.

TITLE V, FEDERAL SURPLUS PROPERTY PROGRAM FEDERAL REGISTER REPORT FOR 07/05/2013

Suitable/Available Properties

Building

Alaska

Building 400

Main Street

King Salmon Airport AK

Landholding Agency: Air Force

Property Number: 18201320079

Status: Unutilized

Comments: 1,408 sf.; storage; 29 yrs. old; moderate conditions; periodic flooding (next to Naknek River)

Building 119

Mountain Top Rd.

Indian Mountain AK

Landholding Agency: Air Force

Property Number: 18201320080

Status: Unutilized

Comments: 256 sf.; waste treatment building; 36+ months vacant; deteriorating; asbestos & lead based paint

Building 125

Mountain Top Rd.

Indian Mountain AK

Landholding Agency: Air Force

Property Number: 18201320081

Status: Unutilized

Comments: 680 sf.; solid waste disposal facility; 36+ months vacant; deteriorated; asbestos & lead based paint

Building 715

Fuel Lane

King Salmon Airport AK

Landholding Agency: Air Force

Property Number: 18201320082

Status: Unutilized

Comments: 256 sf.; fuel building; 24+ months vacant; deteriorated; contamination

Building 720

Fuel Lane

King Salmon Airport AK

Landholding Agency: Air Force

Property Number: 18201320083

Status: Unutilized

Comments: 285 sf.; fuel building; 24+ months vacant; deteriorated; periodic flooding (next to Naknek River)

California

Big Bar Warehouse (1450)

28451 State Hwy 299 West

Big Bar CA 96010

Landholding Agency: Agriculture

Property Number: 15201320026

Status: Excess

Comments: Off-site removal only; 1,100 sf.; storage; 36+ months vacant; repairs needed; security restrictions; contact Agriculture for more info.

Bass Mtn. Micro. Building

On Top of Mtn.

Shasta CA

Landholding Agency: Agriculture

Property Number: 15201320028

Status: Excess

Directions:

Latitude: 40 *43′57,6″ N., Log: 122 *22′1.6″ W

Comments: 120 sf.; pre 1963 yrs.-old; accessibility restrictions; contact Agriculture for more info.

New York

Housing Units

Bldg. 449 USS Florida Court, Ft. Wadsworth

Staten Island NY 10305

Landholding Agency: Coast Guard

Property Number: 88201320006

Status: Excess

Comments: Off-site removal only; 3,546 sf.; housing; extensive mold; flood damage; secured area; contact coast Guard for more info.

Oregon

USDA Forest Service—PNW

Research Station

Corvallis Forestry Sciences Lab

Corvallis OR 97331

Landholding Agency: Agriculture

Property Number: 15201320024

Status: Excess

Comments: 5,270 sf.; greenhouse; 6 months vacant; poor conditions; contact Agriculture for more info.

Lookout Mtn. Radio Building

Umatilla NF Rd.

Union OR

Landholding Agency: Agriculture

Property Number: 15201320027

Status: Excess

Comments: Off-site removal only; 36 sf.; 33 yrs.-old; deteriorated; severe rodent infestation; contact Agriculture for more info.

Virginia

Tract 29-107

Blue Ridge Parkway

Galax VA 24333

Landholding Agency: Interior

Property Number: 61201320025

Status: Excess

Directions: Combs House; garage; cellar; milk house; workshop; barn; hay barn

Comments: Off-site removal only; 200-1,430 sf.; residential, sheds; poor conditions; contamination; contact Interior for more info.

Tract 27-131

Blue Ridge Parkway

Fancy Gap VA 24328

Landholding Agency: Interior

Property Number: 61201320028

Status: Excess

Directions: Poore House, Shed

Comments: Off-site removal only; relocation may be difficult; range 12-=1,200 sf.; residential, shed; 10+ yrs. vacant; poor conditions; contamination; contact Interior for more info.

Tract 27-120

Blue Ridge Parkway

Fancy Gap VA 24328

Landholding Agency: Interior

Property Number: 61201320029

Status: Excess

Directions: Sermons House (frame); House (brick); Storage Shed; metal shed; privy; barn; storage bldg.; livestock shed

Comments: Off-site removal only; relocation may be difficult; range 16-1,120 sf.; residential, sheds; 14+ yrs. vacant; poor conditions; contamination; contact Interior for more info.

Tract 30-139; Dean House

Blue Ridge Parkway

Galax VA 24333

Landholding Agency: Interior

Property Number: 61201320030

Status: Excess

Comments: Off-site removal only; relocation may be difficult; 1,000-1,300 sf.; residential; 13+ yrs. vacant; poor conditions; contamination; contact Interior for more info.

Tract 14-114

Blue Ridge Parkway

Vinton VA 24179

Landholding Agency: Interior

Property Number: 61201320031

Status: Unutilized

Directions: Wilkinson Tree Barn; Barn

Comments: Off-site removal only; no future agency need; relocation may be difficult; range 1,000-1,400 sf.; residential, sheds; 11+ yrs. vacant; poor conditions; contact Interior for more info.

Tract 22-121; Goff Barn

Blue Ridge Parkway

Floyd VA 24091

Landholding Agency: Interior

Property Number: 61201320032

Status: Unutilized

Comments: Off-site removal only; no future agency need; relocation may be difficult; 720 sf.; residential, sheds; 32+ yrs. vacant; poor conditions; contamination

Tract 30-141

Blue Ridge Parkway

Galax VA 24333

Landholding Agency: Interior

Property Number: 61201320033

Status: Excess

Directions: Lynch House; Barn w/lean-to shed; canning shed; shed on East side; shed in woods; springhouse; barn near road; barn in field

Comments: Off-site removal only; relocation may be difficult; 120-1,600 sf.; residential, sheds; 172+ yrs. vacant; poor conditions; contamination

Tract 26-137

Blue Ridge Parkway

Fancy Gap VA 24328

Landholding Agency: Interior

Property Number: 61201320035

Status: Excess

Directions: Morris House & garage; barn 1; barn 2; pigeon house; springhouse; hen house; storage building

Comments: Off-site removal only; relocation may be difficult; 64-2,400 sf.; residential, sheds; 10+ yrs. vacant; poor conditions; contamination

Tract 23-134

Blue Ridge Parkway

Floyd VA 24091

Landholding Agency: Interior

Property Number: 61201320036

Status: Excess

Directions: Pesman house; shed; springhouse; pole house

Comments: Off-site removal only; relocation may be difficult; 88-1.352 sf.; residential, sheds; 13+ yrs. vacant; poor conditions; contamination

Tract 19-140; Essie Spangler (Shaver)

Blue Ridge Parkway

Calloway VA 24067

Landholding Agency: Interior

Property Number: 61201320037

Status: Unutilized

Directions: House; Fruit Storage; Barn #1; Barn #2; Machine Shop; Storage; Shed; Privy; Chicken Coop; Hog Pen; Root Cellar; Meathouse

Comments: Off-site removal only; no future agency need; relocation may be difficult; range from 36-1,200 sf.; residential, sheds; 32+ yrs. vacant; poor conditions; foundation in poor conditions

Tract 20-141

Blue Ridge Parkway

Floyd VA 24091

Landholding Agency: Interior

Property Number: 61201320038

Status: Unutilized

Directions: Gibbs House; Shed #1; Shed #2; Hay Barn; Log Cabin; Tool Shed #1; Tool Shed #2; Barn

Comments: Off-site removal only; no future agency need; relocation may be difficult; 36-840 sf.; residential, sheds; 7+ yrs. vacant; structurally unsound

Tract 26-120

Richard Young House

Blue Ridge Parkway

Fancy Gap VA 24328

Landholding Agency: Interior

Property Number: 61201320041

Status: Excess

Comments: Off-site removal only; 60+ yrs.-old; 1,00-1,100 sf.; residential, shed; 13+ yrs. vacant; poor conditions; significant repairs needed; contamination; contact Interior for more info.

Illinois

Three Contiguous Vacant Lots

5139 S. Mason Ave.

Chicago IL

Landholding Agency: GSA

Property Number: 54201320021

Status: Surplus

GSA Number: 1-U-IL-803

Directions: Disposal Agency: GSA; Landholding Agency: FAA

Comments: 0.65 acres; lots located w/in locked fence; contact GSA for more info.

Mississippi

Harrison County Farm

John Clark Rd.

Gulfport MS 39503

Landholding Agency: GSA

Property Number: 54201320022

Status: Excess

GSA Number: 4-A-MS-0572

Directions: Disposal Agency: GSA; Landholding Agency: Agriculture

Comments: 14.14 acres; fire ant. investigations/grazing; contact GSA for more info.

Washington

Recreational cabin; Lot 92

435 S. Shore Rd.

Quinault WA 98575

Landholding Agency: GSA

Property Number: 54201320018

Status: Excess

GSA Number: 9-A-WA-1267

Directions: Disposal Agency: GSA; Landholding Agency: Interior (US Forest Service)

Comments: 524 sf.; remote location; vacant for 48 months; significant reconstruction to the cabin & infrastructure required for habitability; prior written approval required for repairs or improvements; to be used for recreational purposes only; cannot be used as a residence; use restricted and subject to qualification for term Special Use Permit; unavailable because of conveyance restriction to family and individuals recreational use only; contact GSA for more info.

UNSUITABLE PROPERTIES LAND

Kentucky

Concordia Public Access Site

State Road 230 & Spring Creek

Meade KY 40108

Landholding Agency: GSA

Property Number: 54201320019

Status: Excess

GSA Number: 4-D-KY-0539-6-AE

Directions: Disposal Agency: GSA; Landholding Agency: COE

Comments: Property located in 100 yr. floodplain; majority of property in floodway which has not been corrected or contained; floods periodically

Reasons: Floodway

Alaska

Building 1

Flaxman Island

Flaxman Island AK 99506

Landholding Agency: Air Force

Property Number: 18201320068

Status: Excess

Comments: Public access denied & no alternative method to gain access w/out compromising nat'l security

Reasons: Secured Area

Building 4

Flaxman Island

Flaxman Island AK

Landholding Agency: Air Force

Property Number: 18201320078

Status: Excess

Comments: Public access denied & no alternative method to gain access w/out compromising nat'l security

Reasons:

Secured Area

Hawaii

3 Buildings

360 Malama Bay Dr.

JBPHH HI 98633

Landholding Agency: Navy

Property Number: 77201320007

Status: Unutilized

Directions: 3400, 3402, 3404

Comments: Public access denied & no alternative method to gain access w/out compromising nat'l security

Reasons: Secured Area

Illinois

Structure MSPK1

300 Neyer Circle

Great Lake IL 60088

Landholding Agency: Navy

Property Number: 77201320008

Status: Unutilized

Comments: Public access denied & no alternative method to gain access w/out compromising nat'l security

Reasons: Secured Area

Maryland

Buildings 100 & 101

NIH Animal center

Dickerson MD 20837

Landholding Agency: HHS

Property Number: 57201320001

Status: Unutilized

Comments: Located on scientific research campus; public access denied & no alternative method to gain access w/out compromising nat'l security

Reasons: Secured Area

NIH Animal Center

16701 Elmer School Rd.

Dickerson MD 20837

Landholding Agency: HHS

Property Number: 57201320002

Status: Unutilized

Directions: 115, T8

Comments: Located on scientific research campus; public access denied & no alternative method to gain access w/out compromising nat'l security

Reasons: Secured Area

Buildings 7 & 9

Memorial Dr.

Bethesda MD 20892

Landholding Agency: HHS

Property Number: 57201320003

Status: Unutilized

Comments: Located on biomedical scientific research campus; public access denied & no alternative method to gain access w/out compromising nat'l security

Reasons: Secured Area

Virginia

Tract 19-151 thru 19-156

Blue Ridge Parkway

Floyd VA 24901

Landholding Agency: Interior

Property Number: 61201320024

Status: Unutilized

Directions: Wimmer cow barn; hay shed; outhouse

Comments: Documented Deficiencies: structurally unsound; bldgs. are collapsing; movement of these bldgs. will result in complete collapse

Reasons: Extensive deterioration

Track 23-109

Blue Ridge Parkway

Floyd VA 24091

Landholding Agency: Interior

Property Number: 61201320026

Status: Unutilized

Directions: Crosby Barn, Pole Shed

Comments: Documented Deficiencies: structurally unsound; buildings are collapsing; movement will result incomplete collapse of these bldgs.

Reasons: Extensive deterioration

Tract 29-107; Combs Smokehouse

Blue Ridge Parkway

Galax VA 24333

Landholding Agency: Interior

Property Number: 61201320027

Status: Excess

Comments: Documented Deficiencies: structure has completely collapsed

Reasons: Extensive deterioration

Tract 30-141

Blue Ridge Parkway

Galax VA 24333

Landholding Agency: Interior

Property Number: 61201320034

Status: Excess

Directions: Lynch Sheds 1 & 2 (Barn across state road & shed in woods)

Comments: Documented Deficiencies: buildings have collapsed

Reasons: Extensive deterioration

Tract 19-112; King Barn

Blue Ridge Parkway

Floyd VA 24091

Landholding Agency: Interior

Property Number: 61201320039

Status: Unutilized

Comments: Documented Deficiencies: Property is collapsing; severely structurally unsound

Reasons: Extensive deterioration

Tract 19-128, 19-143

Blue Ridge Parkway

Rocky Mtn. VA 24151

Landholding Agency: Interior

Property Number: 61201320040

Status: Unutilized

Directions: Poff House; Shed; Cellar; Privy; Storage Shed A; Storage Shed B; Additional Shed; root Cellar (Old Truck Body)

Comments: Documented Deficiencies: Properties are severely dilapidated & collapsing; any attempt to relocate will result in complete collapse of these properties

Reasons: Extensive deterioration

Tract 25-112, 25-13

Blue Ridge Parkway

Fancy Gap VA 24328

Landholding Agency: Interior

Property Number: 61201320042

Status: Unutilized

Directions: Asa Spangler House; Storage; Barn

Comments: Documented Deficiencies: Properties have collapsed

Reasons: Extensive deterioration

Buildings 1261 & 1261A

3 Hunsaker Loop/8 Wythe Landing Loop

Hampton VA 23681

Landholding Agency: NASA

Property Number: 71201320005

Status: Unutilized

Comments: Public access denied & no alternative method to gain access w/out compromising nat'l security

Reasons: Secured Area

Building 1258A

10A Wythe Landing Loop

Hampton VA 23681

Landholding Agency: NASA

Property Number: 71201320006

Status: Unutilized

Comments: Public access denied & no alternative method to gain access w/out compromising nat'l security

Reasons: Secured Area

Building 1257N

8 Wythe Landing Loop

Hampton VA 23681

Landholding Agency: NASA

Property Number: 71201320007

Status: Unutilized

Comments: Public access denied & no alternative method to gain access w/out compromising nat'l security

Reasons: Secured Area

Building 1257S

8 Wythe Landing Loops

Hampton VA 23681

Landholding Agency: NASA

Property Number: 71201320008

Status: Unutilized

Comments: Public access denied & no alternative method to gain access w/out compromising nat'l security

Reasons: Secured Area

Building 1258

12 Wythe Landing Loop

Hampton VA 23681

Landholding Agency: NASA

Property Number: 71201320009

Status: Unutilized

Comments: Public access denied & no alternative method to gain access w/out compromising nat'l security

Reasons: Secured Area

Land

Kentucky

Big Sugar Creek Access Site

U.S. Hwy 42 & Hwy 127

Gallatin KY 41095

Landholding Agency: GSA

Property Number: 54201320020

Status: Excess

GSA Number: 4-D-KY-0623-AB

Directions: Disposal Agency: GSA; Landholding Agency: COE

Comments: property located in 100 yr. floodplain; majority of property in floodway which has not been corrected or contained; floods periodically

Reasons: Floodway

[FR Doc. 2013-15894 Filed 7-3-13; 8:45 am]

BILLING CODE 4210-67-P